NATIONAL SCIENCE FOUNDATION

Sunshine Act Meetings

The National Science Board hereby gives notice of the scheduling of two teleconference of the National Science Board/National Science Foundation Commission on Merit Review (MRX) for the transaction of National Science Board business pursuant to the NSF Act and the Government in the Sunshine Act.

TIME AND DATE: Thursday, March 28, 2024, from 2:00-4:00 p.m. EDT.

Monday, April 1, 2024, from 3:00-5:00 p.m. EDT.

PLACE: These meetings will be via videoconference through the National Science Foundation, 2415 Eisenhower Avenue, Alexandria, VA 22314.

STATUS: Closed.

MATTERS TO BE CONSIDERED: The agenda for the March 28, 2024, meeting is: Commission Chair's remarks about the agenda; Commission planning; Discussion of Preliminary Recommendations; Commission Chair's closing remarks.

The agenda for the April 1, 2024, meeting is: Commission Chair's remarks about the agenda; Discussion of Preliminary Recommendations; Commission Chair's closing remarks.

CONTACT PERSON FOR MORE INFORMATION: Point of contact for this meeting is: Chris Blair, cblair@nsf.gov, 703/292-7000. Meeting information and updates may be found at www.nsf.gov/nsb.

Ann E. Bushmiller,
Senior Counsel to the National Science Board Office.

[FR Doc. 2024-06749 Filed 3-26-24; 4:15 pm]

BILLING CODE 7555-01-P